DEPARTMENT OF TRANSPORTATION

National Highway Traffic Safety Administration

Reports, Forms and Record Keeping Requirements; Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on October 23, 2002 (67 FR 65184).

DATES: Comments must be submitted on or before July 25, 2003.

FOR FURTHER INFORMATION CONTACT: Joseph P. Scott at the National Highway Traffic Safety Administration (NHTSA), Office of Crash Avoidance Standards, 202-366-8525. 400 Seventh Street, SW., Washington, DC 20590.

SUPPLEMENTARY INFORMATION:

National Highway Traffic Safety Administration

Title: 49 CFR Part 569 & 574, Tires and Rims Labeling.

OMB Control Number: 2127-0503.

Type of Request: Request for public comment on a previously approved collection of information.

Abstract: New tire manufacturers and rim manufacturers must label tires and rims that are used on motor vehicles. Tire manufactures are required to maintain records of tire purchasers. Regulations specify the methods by which retreaders and retreaded tire brand name owners shall identify tires for use on motor vehicles. The methods require that independent tire dealers and distributors record, on registration forms, their names and addresses and the identification number of the tires sold to tire purchasers and provide the forms to the purchasers, so that the purchasers may report their names to the new tire manufacturers and new tire brand name owners, and by which other tire dealers and distributors shall record and report the names of tire purchasers to the new tire manufacturers and new tire brand name owners.

Affected Public: Business or other for-profit.

Estimated Total Annual Burden: 271,750 hours and $954,000.00.

ADDRESSES: Send comments, within 30 days, to the Office of Information and Regulatory Affairs, Office of Management and Budget, 725 17th Street, NW., Washington, DC 20503, Attention NHTSA Desk Officer.

Comments Are Invited On:

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication.

Issued on: June 20, 2003.
Stephen R. Kratzke,
Associate Administrator for Safety Performance Standards.

[FR Doc. 03-16089 Filed 6-24-03; 8:45 am]

BILLING CODE 4910-59-P